FEDERAL COMMUNICATIONS COMMISSION

[PS Docket Nos. 11-60 and 10-92; ET Docket No. 06-119]

Reliability and Continuity of Communications Networks, Including Broadband Technologies; Effects on Broadband Communications Networks of Damage or Failure of Network Equipment or Severe Overload; Independent Panel Reviewing the Impact of Hurricane Katrina on Communications Networks

AGENCY: Federal Communications Commission.

ACTION: Notice.

SUMMARY: In this document, the Federal Communications Commission (Commission) seeks comment on a broad range of issues regarding the reliability and resiliency of our Nation's communications networks. Our goal is to establish a vigorous dialog with all interested stakeholders, particularly with respect to what action, if any, should be taken by the Commission to address these matters. In addition, the Commission seeks comment on whether it should terminate the following proceedings: Effects on Broadband Communications Networks of Damage or Failure of Network Equipment or Severe Overload, and Independent Panel Reviewing the Impact of Hurricane Katrina on Communications Networks. If these two earlier proceedings were to be terminated, the record developed therein would be consolidated into this single new proceeding, which will enable the Commission to consider all relevant matters in a more comprehensive fashion.

DATES: Comments with respect to the proposed termination of PS Docket 10-92 and EB Docket 06-119 are due on or before May 31, 2011. Comments with respect to all other matters raised in this document are due on or before July 7, 2011 and reply comments are due on or before September 1, 2011.

ADDRESSES: Pursuant to §§ 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th St., SW., Washington, DC 20554.

FOR FURTHER INFORMATION CONTACT: Lisa M. Fowlkes, Deputy Bureau Chief, Public Safety and Homeland Security Bureau at 202-418-7452 or lisa.fowlkes@fcc.gov; or Jeffery Goldthorp, Associate Chief for Cybersecurity and Communications Reliability, Public Safety and Homeland Security Bureau at 202-418-1096 or jeffery.goldthorp@fcc.gov; or Lauren Kravetz, Deputy Chief, Cybersecurity and Communications Reliability Division, Public Safety and Homeland Security Bureau at 202-418-7944 or lauren.kravetz@fcc.gov.

SUPPLEMENTARY INFORMATION: This is a summary of the Commission's Notice of Inquiry (NOI) in PS Docket Nos. 11-60 and 10-92; and ET Docket No. 06-119, adopted and released on April 7, 2011. The complete text of this document is available for inspection and copying during normal business hours in the FCC Reference Information Center, Portals II, 445 12th St., SW., Room CY-A257, Washington, DC 20554. This document may also be purchased from the Commission's duplicating contractor Best Copy and Printing, Inc., Portals II, 445 12th St., SW., Room CY-B402, Washington, DC 20554, telephone (800) 378-3160 or (202) 488-5300, facsimile (202) 488-5563, or via e-mail at fcc@bcpiweb.com. It is also available on the Commission's Web site at http://www.fcc.gov. To request materials in accessible formats for people with disabilities (Braille, large print, electronic files, audio format), send an e-mail to fcc504@fcc.gov or call the Consumer & Governmental Affairs Bureau at 202-418-0530 (voice), 202-418-0432 (tty).

Summary of the Notice of Inquiry

1. Overview. By this NOI, the Federal Communications Commission (Commission) seeks comment on a broad range of issues regarding the reliability and resiliency of our Nation's communications networks.

2. In addition, the Commission seeks comment on whether it should terminate two of the above-captioned proceedings—PS Docket 10-92 (Effects on Broadband Communications Networks of Damage or Failure of Network Equipment or Severe Overload), and EB Docket 06-119 (Independent Panel Reviewing the Impact of Hurricane Katrina on Communications Networks).

3. Reliability and Continuity Matters. This NOI initiates a comprehensive examination of issues regarding the reliability, resiliency and continuity of communications networks, including broadband technologies.

4. Today's increasingly interconnected world is one in which communications services, including broadband technologies, play a critical role in all segments of our Nation's society and economy.

5. Businesses rely on communications to conduct financial and other transactions, and hospitals and healthcare providers rely on communications services to provide medical care. Government agencies, at all levels, rely on communications services to ensure the safety of the public and to provide other services, while power companies and other utilities use communications services for their operations and to deploy energy-efficient technologies.

6. For example, power companies are looking to broadband technologies as they begin to deploy Smart Grid. Hospitals and healthcare providers can leverage broadband technologies for video consultation, remote patient monitoring, and better access to electronic healthcare records. Financial institutions use broadband technology to clear large volumes of transactions to keep the economy running efficiently. Moreover, consumers increasingly are relying on broadband platforms in addition to, or in place of, legacy platforms for voice communications.

7. Thus, it is vital that our Nation maintain a communications network that offers reliable and resilient service in the face of significant equipment or system failure and that is sufficiently survivable to provide some continuity of service during major emergencies, regardless of whether the network is legacy or broadband-based.

8. In addition, as the communications infrastructure migrates from legacy connection-based wireline technologies to connectionless Internet Protocol (IP)-based broadband technology, the Commission believes that it does not have sufficient information to know whether critical communications services will be carried over a communications network infrastructure that will remain functional during significant natural and manmade disasters. At the same time, the Commission believes that users of communications services today generally do not readily distinguish between legacy and broadband technologies, and are thus more likely than ever before to expect the same levels of “carrier grade” service reliability no matter what communications platform they use. As a result, the potential for disparities in service reliability is a source of concern for critical sectors of our economy, including homeland security, public safety, energy, finance and healthcare services, as well as for the government and consumers in general.

9. Against this backdrop, the NOI brings together several lines of inquiry derived from initiatives set forth in the Commission's National Broadband Plan (NBP). For example, the NBP identified insufficient communications backhaul redundancy and inadequacy of backup power as key factors that contribute to the congestion or failure of commercial wireless data networks, particularly during emergencies such as large-scale natural and man-made disasters. The NBP also recommended that the Commission engage in an exploration of the reliability and resiliency standards applied to broadband networks to ascertain what action, if any, the Commission should take to bolster the reliability of broadband infrastructures.

10. In the course of exploring these considerations, the NOI looks at four major areas of concern. First, it explores the ability of communications networks to provide continuity of service during major emergencies, such as large-scale natural and man-made disasters. This includes a discussion of the use of backup power and improved backhaul redundancy solutions. Second, it examines whether we might need standards for broadband network reliability and resiliency to ensure adequate levels of service to meet public safety and other critical infrastructure needs. This includes consideration of protocols and equipment reliability, as well as system capacity and maintenance issues. Third, the NOI seeks comment on what actions, if any, the Commission should take to foster improved performance with respect to the continuity and reliability of operations during major emergencies. And, fourth, it seeks comment on the sources of legal authority that could provide the basis for Commission action, if any.

11. Termination of Earlier Proceedings. The NOI also seeks comment on whether the Commission should terminate the dockets in two earlier proceedings—PS Docket 10-92 (Effects on Broadband Communications Networks of Damage or Failure of Network Equipment or Severe Overload), and EB Docket 06-119 (Independent Panel Reviewing the Impact of Hurricane Katrina on Communications Networks). The issues raised in these two earlier proceedings are interrelated to and overlap with issues raised by this NOI. Thus, to ensure a comprehensive examination of all issues related to reliability, resiliency, survivability, and continuity of communications networks in this NOI proceeding, the Commission believes that termination of the two older proceedings and consolidation of all of the relevant issues under this NOI proceeding would serve the public interest.

12. Conclusion. The Commission intends for the record generated by this proceeding to provide the opportunity for a thorough discussion of the reliability and continuity of the operational capabilities of our Nation's communications infrastructure.

Ordering Clauses

13. Accordingly, it is ordered that, pursuant to sections 1, 4(i), 4(j), 4(o), 7(b), and 403 of the Communications Act of 1934, as amended, 47 U.S.C. 151, 154(i)-(j) & (o), 157(b) and 403, this NOI is adopted.

14. It is further ordered that comments with respect to the proposed termination of PS Docket 10-92 and EB Docket 06-119 are due on or before May 31, 2011.

Federal Communications Commission.
Jeffery Goldthorp,
Associate Chief.

[FR Doc. 2011-10232 Filed 4-27-11; 8:45 am]

BILLING CODE 6712-01-P